CHEMICAL SAFETY AND HAZARD INVESTIGATION BOARD

Sunshine Act Meeting

TIME AND DATE: September 17, 2019, 11:00 a.m. EDT.

PLACE: U.S. Chemical Safety and Hazard Investigation Board, 1750 Pennsylvania Ave. NW, Suite 910, Washington, DC 20006.

STATUS: Open to the public.

MATTERS TO BE CONSIDERED: The Chemical Safety and Hazard Investigation Board (CSB) will convene a public meeting on Tuesday, September 17, 2019, at 11:00 a.m. EDT in Washington, DC, at the CSB offices located at 1750 Pennsylvania Avenue NW, Suite 910. The Board will address the following matters:

• Open investigations, including a staff presentation on the ongoing investigation into the April 2, 2019, fire and explosion at the KMCO facility in Crosby, Texas;

• The status of audits from the Office of the Inspector General;

• Financial and organizational updates;

• Vote on Notation Item 2019-56, (amendment of Order 001 to provide additional notice of public meetings), if calendared;

• Vote on calendared notation item 2019-51, proposed status change to Recommendation to the Occupational Safety and Health Administration (OSHA) (2005-4-I-TX-R8);

• Vote on notation item or motion on proposed amendment of Board Order 047, Accident Victim and Family Communication Program, to address publication of names of the deceased in CSB Investigation Reports; and

• Vote on motion to amend the previously issued DuPont LaPorte and Pryor Trust Investigation Reports to add the names of individuals who died as a result of each incident.

Additional Information

The meeting is free and open to the public. If you require a translator or interpreter, please notify the individual listed below as the “Contact Person for Further Information,” at least three business days prior to the meeting.

A conference call line will be provided for those who cannot attend in person. Please use the following dial-in number to join the conference:

Dial-In: 1 (888) 424-8151 Audience U.S. Toll Free, 1 (847) 585-4422 Audience U.S. Toll.

Passcode: 6088 155#.

The CSB is an independent federal agency charged with investigating incidents and hazards that result, or may result, in the catastrophic release of extremely hazardous substances. The agency's Board Members are appointed by the President and confirmed by the Senate. CSB investigations look into all aspects of chemical accidents and hazards, including physical causes, such as equipment failure, as well as inadequacies in regulations, industry standards, and safety management systems.

Public Comment

The time provided for public statements will depend upon the number of people who wish to speak. Speakers should assume that their presentations will be limited to three minutes or less; commenters, however, may submit written statements for the record.

Contact Person for Further Information

Hillary Cohen, Communications Manager, at public@csb.gov or (202) 446-8094. Further information about this public meeting can be found on the CSB website at: www.csb.gov.

Authority: 5 U.S.C. 552b.

Dated: September 4, 2019.
Ray Porfiri,
Deputy General Counsel, Chemical Safety and Hazard Investigation Board.

[FR Doc. 2019-19450 Filed 9-9-19; 4:15 pm]

BILLING CODE 6350-01-P